FEDERAL TRADE COMMISSION

Delegation of Authority To Respond to Requests From Ireland's Office of the Director of Consumer Affairs

AGENCY: Federal Trade Commission.

ACTION: Delegation of authority.

SUMMARY: The Commission has delegated authority to the Associate Director for International Consumer Protection to respond to disclosure and other requests from Ireland's Office of the Director of Consumer Affairs pursuant to a memorandum of understanding with the Commission.

EFFECTIVE DATE: October 2, 2003.

FOR FURTHER INFORMATION CONTACT: Pablo Zylberglait, Legal Advisor for International Consumer Protection, International Division of Consumer Protection, (202) 326-3260, pzylberglait@ftc.gov.

SUPPLEMENTARY INFORMATION: Notice is hereby given, pursuant to Reorganization Plan No. 4 of 1961, 26 FR 6191, that the Commission has delegated to the Associate Director for International Consumer Protection the authority to respond to disclosure and other requests from Ireland's Office of the Director of Consumer Affairs pursuant to a memorandum of understanding with the Commission about consumer protection information sharing and enforcement cooperation. This delegated authority does not apply to competition-related investigations. When exercising its authority under this delegation, staff may only disclose information regarding consumer protection investigations involving Ireland, and will require assurances of confidentiality from Ireland's Office of the Director of Consumer Affairs. Disclosures shall be made only to the extent consistent with current limitations on disclosure, including section 6(f) of the FTC Act, 15 U.S.C. 46(f), section 21 of the Act, 15 U.S.C. 57b-2, and Commission Rule 4.10(d), 16 CFR 4.10(d), and with the Commission's enforcement policies and other important interests. Where the subject matter of the information to be shared raises significant policy concerns, staff shall consult with the Commission before disclosing such information.

By direction of the Commission.
Donald S. Clark,
Secretary.

[FR Doc. 03-26493 Filed 10-20-03; 8:45 am]

BILLING CODE 6750-01-M